DEPARTMENT OF ENERGY

Federal Energy Regulatory Commission

[Docket No. EL12-102-000]

Northern Indiana Public Service Company; Notice of Petition for Declaratory Order

September 17, 2012.

Take notice that on September 12, 2012, Northern Indiana Public Service Company, pursuant to section 207 of the Federal Energy Regulatory Commission's (Commission) Rules of Practice and Procedure 18 CFR 385.207, Section 219 of the Federal Power Act (FPA) ¹ and Order No. 679,² filed a petition for declaratory order requesting authorization for transmission rate incentives related to: (1) Its portion of a new 765 kV transmission line from the Reynolds substation to the Greentown substation and (2) substation upgrades at Reynolds substation, including a 765 kV/345kV transformer, a Multi-Value Project approved under the Midwest Independent Transmission System Operator, Inc. Transmission Expansion Plan process.

¹ 16 U.S.C. 824e, 824s(a) (2006). FPA Section 219 was added as part of the Energy Policy Act of 2005, Public Law 109-58, 119Stat. 594, 315 and 1283 (2005).

² Promoting Transmission Investment Through Pricing Reform, Order No. 679, FERC Stats. & Regs. 31,222 (Order No. 679), order on reh'g, Order No. 679-A, FERC Stats. & Regs. 31,236 (2006) (Order No. 679-A), reh'g denied 119 FERC 61,062 (2007), appeal dismissed sub nom., Am. Pub. Power Ass'n. v. FERC, No. 07-1050, 2007 U.S.App. LEXIS 11908 (D.C. Cir. May 14, 2007).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5 p.m. Eastern Time on October 12, 2012.

Dated: September 17, 2012.
Kimberly D. Bose,
Secretary.

[FR Doc. 2012-23422 Filed 9-21-12; 8:45 am]

BILLING CODE 6717-01-P